DEFENSE NUCLEAR FACILITIES SAFETY BOARD

Senior Executive Service Performance Review Board

AGENCY: Defense Nuclear Facilities Safety Board.

ACTION: Notice of members of Senior Executive Service Performance Review Board.

SUMMARY: This notice announces the membership of the Defense Nuclear Facilities Safety Board (DNFSB) Senior Executive Service (SES) Performance Review Board (PRB).

DATES: These appointments were effective on December 3, 2019.

ADDRESSES: Send comments concerning this notice to: Defense Nuclear Facilities Safety Board, 625 Indiana Avenue NW, Suite 700, Washington, DC 20004-2001.

FOR FURTHER INFORMATION CONTACT: Vanessa D. Prout by telephone at (202) 694-7021 or by email at VanessaP@dnfsb.gov.

SUPPLEMENTARY INFORMATION: 5 U.S.C. 4314(c)(1) through (5) requires each agency to establish, in accordance with regulations prescribed by the Office of Personnel Management, one or more performance review boards. The PRB shall review and evaluate the initial summary rating of the senior executives' performance, the executives' responses, and the higher level officials' comments on the initial summary rating. In addition, the PRB will review and recommend executive performance bonuses and pay increases.

The DNFSB is a small, independent Federal agency; therefore, the members of the DNFSB SES Performance Review Board listed in this notice are drawn from the SES ranks of other agencies. The following persons comprise a standing roster to serve as members of the Defense Nuclear Facilities Safety Board SES Performance Review Board:

David M. Capozzi, Director of Technical and Information Services, United States Access Board

Dolline L. Hatchett, Director, Office of Safety Recommendations and Communications, National Transportation Safety Board

Jessica S. Bartlett, Regional Director, Federal Labor Relations Authority, Washington Regional Office

Authority: 5 U.S.C. 4314.

Dated: December 9, 2019.
Bruce Hamilton,
Chairman.

[FR Doc. 2019-26824 Filed 12-12-19; 8:45 am]

BILLING CODE 3670-01-P